DEPARTMENT OF HOMELAND SECURITY

U.S. Customs and Border Protection

DEPARTMENT OF THE TREASURY

19 CFR Part 12

[CBP Dec. 18-11]

RIN 1515-AE40

Extension of Import Restrictions Imposed on Archaeological Material From Cambodia

AGENCY: U.S. Customs and Border Protection; Department of Homeland Security; Department of the Treasury.

ACTION: Final rule.

SUMMARY: This document amends the U.S. Customs and Border Protection (CBP) regulations to reflect an extension of import restrictions on certain archaeological material from Cambodia. The restrictions, which were originally imposed by CBP Dec. 03-28, and last extended by CBP Dec. 13-15, are due to expire on September 19, 2018. The Acting Under Secretary for Public Diplomacy and Public Affairs, United States Department of State, has determined that conditions continue to warrant the imposition of import restrictions. Accordingly, these import restrictions will remain in effect for an additional five years, and the CBP regulations are being amended to reflect this further extension through September 19, 2023. These restrictions are being extended pursuant to determinations of the United States Department of State made under the terms of the Convention on Cultural Property Implementation Act. CBP Dec. 08-40 contains the amended Designated List of archaeological material from Cambodia to which the restrictions apply.

DATES: Effective Date: September 19, 2018.

FOR FURTHER INFORMATION CONTACT: For regulatory aspects, Lisa L. Burley, Branch Chief, Cargo Security, Carriers and Restricted Merchandise Branch, Regulations and Rulings, Office of Trade, (202) 325-0215, ot-otrrculturalproperty@cbp.dhs.gov. For operational aspects, William R. Scopa, Branch Chief, Partner Government Agency Branch, Trade Policy and Programs, Office of Trade, (202) 863-6554, William.R.Scopa@cbp.dhs.gov.

SUPPLEMENTARY INFORMATION:

Background

Pursuant to the Convention on Cultural Property Implementation Act, Public Law 97-446, 19 U.S.C. 2601 et seq. (hereinafter, “the Cultural Property Implementation Act” or “the Act”), which implements the 1970 United Nations Educational, Scientific and Cultural Organization (UNESCO) Convention on the Means of Prohibiting and Preventing the Illicit Import, Export and Transfer of Ownership of Cultural Property (hereinafter, “1970 UNESCO Convention” or “the Convention” (823 U.N.T.S. 231 (1972))), the United States entered into a bilateral agreement, or Memorandum of Understanding (MOU), with Cambodia on September 19, 2003 to impose import restrictions on certain Khmer archaeological material from the 6th century through the 16th century A.D. On September 22, 2003, U.S. Customs and Border Protection (CBP) published a final rule (CBP Dec. 03-28) in the Federal Register (68 FR 55000), which amended § 12.104g(a) of title 19 of the Code of Federal Regulations (19 CFR 12.104g(a)) to reflect the imposition of these restrictions and included a list covering certain Khmer stone, metal and ceramic archaeological material. These import restrictions subsumed emergency import restrictions on certain stone archaeological material (T.D. 99-88), which were published in the Federal Register (64 FR 67479) on December 2, 1999. These restrictions were to be effective through September 19, 2008.

On September 19, 2008, CBP published a final rule (CBP Dec. 08-40) in the Federal Register (73 FR 54309), which amended 19 CFR 12.104g(a) to reflect the extension of these import restrictions for an additional period of five years until September 19, 2013. This document also amended the Designated List to include new categories of objects (glass and bone) and additional subcategories of stone and metal objects from the Bronze Age (c. 1500 B.C.-500 B.C.) and the Iron Age (c. 500 B.C.-550 A.D.), covering archaeological material from the Bronze Age through the Khmer Era (16th c. A.D.).

On January 7, 2013, the United States Department of State proposed in the Federal Register (78 FR 977) to extend the MOU between the United States and Cambodia concerning the imposition of import restrictions on archaeological material from Cambodia. On June 10, 2013, the Assistant Secretary for Educational and Cultural Affairs, United States Department of State, made the determination to extend the import restrictions for an additional five years. On September 16, 2013, CBP published a final rule (CBP Dec. 13-15) in the Federal Register (78 FR 56832), which further extended the import restrictions for an additional five years. The import restrictions are due to expire on September 19, 2018.

Import restrictions listed at 19 CFR 12.104g(a) are effective for no more than five years beginning on the date on which the agreement enters into force with respect to the United States. This period may be extended for additional periods of not more than five years if it is determined that the factors which justified the initial agreement still pertain and no cause for suspension of the agreement exists.

On April 11, 2018, the Assistant Secretary for Educational and Cultural Affairs, United States Department of State, after consultation with and recommendations by the Cultural Property Advisory Committee, determined that the cultural heritage of Cambodia continues to be in jeopardy from pillage of certain archaeological material and that the import restrictions should be extended for an additional five years. Diplomatic notes have been exchanged reflecting the extension of those restrictions for an additional five-year period. Accordingly, CBP is amending 19 CFR 12.104g(a) to reflect the extension of the import restrictions. The amended Designated List of archaeological material from Cambodia covered by these import restrictions is set forth in CBP Dec. 08-40.

The Designated List and additional information may also be found at the following website address: https://eca.state.gov/cultural-heritage-center/cultural-property-protection/bilateral-agreements by clicking on “Cambodia.” The restrictions on the importation of archaeological material from Cambodia are to continue in effect through September 19, 2023. Importation of such material from Cambodia continues to be restricted through that date unless the conditions set forth in 19 U.S.C. 2606 and 19 CFR 12.104c are met.

Inapplicability of Notice and Delayed Effective Date

This amendment involves a foreign affairs function of the United States and is, therefore, being made without notice or public procedure under 5 U.S.C. 553(a)(1). For the same reason, a delayed effective date is not required under 5 U.S.C. 553(d)(3).

Regulatory Flexibility Act

Because no notice of proposed rulemaking is required, the provisions of the Regulatory Flexibility Act (5 U.S.C. 601 et seq.) do not apply.

Executive Orders 12866 and 13771

CBP has determined that this document is not a regulation or rule subject to the provisions of Executive Order 12866 or Executive Order 13771 because it pertains to a foreign affairs function of the United States, as described above, and therefore is specifically exempted by section 3(d)(2) of Executive Order 12866 and section 4(a) of Executive Order 13771.

Signing Authority

This regulation is being issued in accordance with 19 CFR 0.1(a)(1), pertaining to the Secretary of the Treasury's authority (or that of his/her delegate) to approve regulations related to customs revenue functions.

List of Subjects in 19 CFR Part 12

Cultural property, Customs duties and inspection, Imports, Prohibited merchandise.

Amendment to CBP Regulations

For the reasons set forth above, part 12 of title 19 of the Code of Federal Regulations (19 CFR part 12) is amended as set forth below:

PART 12—SPECIAL CLASSES OF MERCHANDISE

1. The general authority citation for part 12 and the specific authority citation for § 12.104g continue to read as follows:

Authority: 5 U.S.C. 301; 19 U.S.C. 66, 1202 (General Note 3(i), Harmonized Tariff Schedule of the United States (HTSUS)), 1624.

* * * * *

Sections 12.104 through 12.104i also issued under 19 U.S.C. 2612;

* * * * *

§ 12.104g [Amended]

2. In § 12.104g(a), the table is amended in the entry for Cambodia by removing the words “CBP Dec. 13-15” in the column headed “Decision No.” and adding in its place the words “CBP Dec. 18-11”.

Kevin K. McAleenan,
Commissioner, U.S. Customs and Border Protection.
Approved: September 13, 2018.
Timothy E. Skud,
Deputy Assistant Secretary of the Treasury.

[FR Doc. 2018-20316 Filed 9-18-18; 8:45 am]

BILLING CODE 9111-14-P